DEPARTMENT OF COMMERCE

National Oceanic and Atmospheric Administration

[RTID 0648-XC496]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one day in-person and virtual meeting (hybrid) of its Shrimp Advisory Panel (AP).

DATES: The meeting will convene Tuesday, November 15, 2022, 8:30 a.m.-5 p.m., EST. For agenda details, see SUPPLEMENTARY INFORMATION.

ADDRESSES: Registration information will be available on the Council's website by visiting www.gulfcouncil.org and clicking on the Shrimp AP meeting on the calendar.

Council address: Gulf of Mexico Fishery Management Council, 4107 W Spruce Street, Suite 200, Tampa, FL 33607; telephone: (813) 348-1630.

FOR FURTHER INFORMATION CONTACT: Dr. Matt Freeman, Economist, Gulf of Mexico Fishery Management Council; matt.freeman@gulfcouncil.org, telephone: (813) 348-1630.

SUPPLEMENTARY INFORMATION: The following items are on the agenda, though agenda items may be addressed out of order (changes will be noted on the Council's website when possible.)

Tuesday, November 15, 2022; 8:30 a.m.-5 p.m. EST (7:30 a.m.-4 p.m. CST)

Meeting will begin with Adoption of Agenda, Approval of Minutes from March 29, 2022, meeting, and Scope of Work. The AP will review Council Actions in Response to Motions from the March 2022 Shrimp AP Meeting, and June 2022 Council Meeting Motions. The AP will receive updates on the Florida Keys National Marine Sanctuary Expansion Proposal, Status of 2020 Gulf of Mexico Shrimp Effort and Landings Estimates, Draft Wind Energy Areas in the Gulf of Mexico and update on Research Track (SEDAR).

The AP will review the Recent Information on Sawfish in the Gulf; and receive any public testimony and discuss other business items.

—Meeting Adjourns

The in-person meeting will be broadcast via webinar. You may register by visiting www.gulfcouncil.org and clicking on the Shrimp Advisory Panel meeting on the calendar.

The Agenda is subject to change, and the latest version along with other meeting materials will be posted on www.gulfcouncil.org as they become available.

Although other non-emergency issues not on the agenda may come before the Advisory Panel for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take-action to address the emergency at least 5 working days prior to the meeting.

Special Accommodations

The meeting is physically accessible to people with disabilities. Requests for sign language interpretation or other auxiliary aid or accommodations should be directed to Kathy Pereira, kathy.pereira@gulfcouncil.org, at least 5 days prior to the meeting date.

Authority: 16 U.S.C. 1801 et seq.

Dated: October 25, 2022.
Rey Israel Marquez,
Acting Deputy Director, Office of Sustainable Fisheries, National Marine Fisheries Service.

[FR Doc. 2022-23552 Filed 10-27-22; 8:45 am]

BILLING CODE 3510-22-P